DEPARTMENT OF COMMERCE

International Trade Administration

[A-570-932]

Certain Steel Threaded Rod From the People's Republic of China: Final Results of Antidumping Duty Administrative Review; 2013-2014

AGENCY: Enforcement and Compliance, International Trade Administration, Department of Commerce.

SUMMARY: The Department of Commerce (the “Department”) published the Preliminary Results of the fifth administrative review of the antidumping duty order on certain steel threaded rod from the People's Republic of China (“PRC”) on May 7, 2015.¹ We gave interested parties an opportunity to comment on the Preliminary Results. Based upon our analysis of the comments and information received, we made changes to the margin calculations for these final results. The final dumping margins are listed below in the “Final Results of Administrative Review” section of this notice. The period of review (“POR”) is April 1, 2013, through March 31, 2014.

¹ See Certain Steel Threaded Rod from the People's Republic of China: Preliminary Results of the Antidumping Duty Administrative Review; 2013-2014, 80 FR 26222 (May 7, 2015) (“Preliminary Results”) and accompanying Preliminary Decision Memorandum.

DATES: Effective Date: November 12, 2015.

FOR FURTHER INFORMATION CONTACT: Julia Hancock or Jerry Huang, AD/CVD Operations, Office V, Enforcement and Compliance, International Trade Administration, U.S. Department of Commerce, 14th Street and Constitution Avenue NW., Washington, DC 20230; telephone 202-482-1394 or 202-482-4047, respectively.

SUPPLEMENTARY INFORMATION:

Background

The Department published the Preliminary Results on May 7, 2015.² In accordance with 19 CFR 351.309, we invited parties to comment on our Preliminary Results. Between June 22, 2015, and July 13, 2015, Vulcan Threaded Products Inc. (“Petitioner”), RMB Fasteners Ltd., and IFI & Morgan Ltd. (collectively “RMB/IFI Group”), Gem-Year Industrial Co., Ltd. (“Gem-Year”), Hubbell Power Systems, Inc. (“HPS”), and Brighton Best International (“BBI”) submitted case and rebuttal briefs. On June 12, 2015, the Department extended the deadline for the final results to October 19, 2015 ³, and again on October 6, 2015, to November 3, 2015.⁴ On September 9, 2015, the Department held a public hearing.

² Id.

³ See Memorandum to Christian Marsh, Deputy Assistant Secretary for Antidumping and Countervailing Duty Operations, through James Doyle, Office Director, from Julia Hancock, Senior International Trade Compliance Analyst, “Certain Steel Threaded Rod from the People's Republic of China: Extension of Deadline for Final Results of Administrative Review” (June 12, 2015).

⁴ See Memorandum to Christian Marsh, Deputy Assistant Secretary for Antidumping and Countervailing Duty Operations, through James Doyle, Office Director, from Julia Hancock, Senior International Trade Compliance Analyst, “Certain Steel Threaded Rod from the People's Republic of China: Extension of Deadline for Final Results of Administrative Review” (October 6, 2015).

Scope of the Order

The merchandise covered by the order includes steel threaded rod. The subject merchandise is currently classifiable under subheading 7318.15.5051, 7318.15.5056, 7318.15.5090, and 7318.15.2095 of the United States Harmonized Tariff Schedule (“HTSUS”). Although the HTSUS subheadings are provided for convenience and customs purposes, our written description of the scope of the order, which is contained in the accompanying Issues and Decision Memorandum (“I&D Memo”), is dispositive.⁵

⁵ For a full description of the scope of the order, see Memorandum from Christian Marsh, Deputy Assistant Secretary for Antidumping and Countervailing Duty Operations, to Paul Piquado, Assistant Secretary for Enforcement and Compliance, “Issues and Decision Memorandum for the Final Results of Fifth Antidumping Duty Administrative Review: Certain Steel Threaded Rod from the People's Republic of China” (November 3, 2015) (“I&D Memo”).

Analysis of Comments Received

We addressed all issues raised in the case and rebuttal briefs by parties in this review in the I&D Memo. Attached to this notice, in Appendix I, is a list of the issues which parties raised. The I&D Memo is a public document and is on file in the Central Records Unit (“CRU”), Room B8024 of the main Department of Commerce building, as well as electronically via Enforcement and Compliance's Antidumping and Countervailing Duty Centralized Electronic Service System (“ACCESS”). ACCESS is available to registered users at http://access.trade.gov and in the CRU. In addition, a complete version of the I&D Memo can be accessed directly on the Internet at http://enforcement.trade.gov/frn/index.html. The signed I&D Memo and the electronic versions of the I&D Memo are identical in content.

Changes Since the Preliminary Results

Based on our review of the record and comments received from interested parties regarding our Preliminary Results, we have now calculated a dumping margin based on the sales data and factors of production (“FOP”) data submitted by the RMB/IFI Group. Additionally, the Department has selected Thailand as the primary surrogate country and valued the RMB/IFI Group's FOP data/movement expenses with data from Thailand. For a list of all issues addressed in these final results, please refer to Appendix I accompanying this notice.

Final Results of Administrative Review

The weighted-average dumping margin for the administrative review is as follows:

Exporter | Weighted- average margin (percent)
IFI & Morgan Ltd. and RMB Fasteners Ltd. (collectively “RMB/IFI Group”) | 39.42

In addition, the Department continues to find that the companies identified in Appendix II, attached to this notice, are part of the PRC-wide entity.

Assessment Rates

Pursuant to section 751(a)(2)(A) of the Tariff Act of 1930, as amended (the “Act”), and 19 CFR 351.212(b), the Department has determined, and U.S. Customs and Border Protection (“CBP”) shall assess, antidumping duties on all appropriate entries of subject merchandise in accordance with the final results of this review. The Department intends to issue appropriate assessment instructions directly to CBP 15 days after publication of the final results of this administrative review.

Where the respondent reported reliable entered values, we calculated importer (or customer)-specific ad valorem rates by aggregating the dumping margins calculated for all U.S. sales to each importer (or customer) and dividing this amount by the total entered value of the sales to each importer (or customer).⁶ Where the Department calculated a weighted-average dumping margin by dividing the total amount of dumping for reviewed sales to that party by the total sales quantity associated with those transactions, the Department will direct CBP to assess importer-specific assessment rates based on the resulting per-unit rates.⁷ Where an importer- (or customer-) specific ad valorem or per-unit rate is greater than de minimis, the Department will instruct CBP to collect the appropriate duties at the time of liquidation.⁸ Where an importer- (or customer-) specific ad valorem or per-unit rate is zero or de minimis, the Department will instruct CBP to liquidate appropriate entries without regard to antidumping duties.⁹ We intend to instruct CBP to liquidate entries containing subject merchandise exported by the PRC-wide entity at the PRC-wide rate.

⁶ See 19 CFR 351.212(b)(1).

⁷ Id.

⁸ Id.

⁹ See 19 CFR 351.106(c)(2).

Pursuant to the Department's assessment practice, for entries that were not reported in the U.S. sales databases submitted by companies individually examined during this review, the Department will instruct CBP to liquidate such entries at the PRC-wide entity rate. Additionally, if the Department determines that an exporter had no shipments of the subject merchandise, any suspended entries that entered under that exporter's case number (i.e., at that exporter's rate) will be liquidated at the PRC-wide entity rate.¹⁰

¹⁰ See Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporter listed above, the cash deposit rate will be the rate established in the final results of review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-Wide rate of 206 percent; and (4) for all non-PRC exporters of subject merchandise which have not received their own rate, the cash deposit rate will be the rate applicable to the PRC exporters that supplied that non-PRC exporter. The deposit requirements shall remain in effect until further notice.

Disclosure

We will disclose the calculations performed within five days of the date of publication of this notice to parties in this proceeding in accordance with 19 CFR 351.224(b).

Notification to Importers

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Administrative Protective Orders

This notice also serves as a reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review in accordance with sections 751(a)(1) and 777(i) of the Act.

Dated: November 2, 2015.
Paul Piquado,
Assistant Secretary for Enforcement and Compliance.

Appendix I—Issues and Decision Memorandum

I. Summary

II. Scope

III. Background

IV. Determination of the Methodology for the RMB/IFI Group

V. Discussion of the Issues

Comment 1: Application of Total Adverse Facts Available (“AFA”) to Gem-Year

Comment 2: Application of the PRC-Wide Rate to Gem-Year and Not Granting a Separate Rate

Comment 3: Opportunity To Submit Information on Corroborating PRC-Wide Rate

Comment 4: Application of Total AFA to the RMB/IFI Group

Comment 5: Application of the PRC-Wide Rate to the RMB/IFI Group and Not Granting a Separate Rate

Comment 6: Selection of Surrogate Country

Comment 7: Surrogate Value for Steel Wire Rod and Round Bar

Comment 8: Surrogate Value for Labor

Comment 9: Surrogate Financial Ratios

VI. Conclusion

Appendix II—Companies Subject to the Administrative Review That Are Part of the PRC-Wide Entity

Fastco (Shanghai) Trading Co., Ltd.

Gem-Year Industrial Co., Ltd.

Haiyan Dayu Fasteners Co., Ltd.

Jiaxing Brother Standard Part.

Midas Union Co., Ltd.

New Pole Power System Co. Ltd.

Shanghai P&J International Trading Co., Ltd.

Zhejiang Morgan Brother Technology Co. Ltd.

[FR Doc. 2015-28751 Filed 11-10-15; 8:45 am]

BILLING CODE 3510-DS-P